DEPARTMENT OF EDUCATION

[CFDA No. 84.341]

Grants and Cooperative Agreements; Availability, etc.

AGENCY: Office of Vocational and Adult Education.

ACTION: Notice inviting applicants to serve as field readers for the Community Technology Centers Program.

SUMMARY: The Office of Vocational and Adult Education (OVAE) invites interested individuals to apply to serve as field readers to evaluate grant applications for the Community Technology Centers Program. The purpose of the Community Technology Centers Program is to increase access to information technology and related educational services for adults and children in economically distressed low-income urban and rural communities through grants to establish or expand community technology centers.

DATES: Interested individuals are strongly encouraged to apply by April 15, 2001.

SUPPLEMENTARY INFORMATION: Detailed information on the program is available online at: http://ed.gov/offices/OVAE/CTC.

Duties and Compensation of Field Readers: Field readers will review applications according to the applicable selection criteria. It is expected that reviewers will be mailed applications and materials, oriented in a telephone conference call, assigned to a panel, and given a set period of time to review applications. Panel discussions with other reviewers will take about five hours and will also be conducted by telephone conference call. Each field reader who is selected will receive compensation for the review.

Field Reader Qualifications: The Department is seeking experienced and knowledgeable professionals who are current with issues regarding the provision of computers and technology to residents of low-income urban and rural communities. These professionals should be familiar with issues dealing with the start-up and expansion of community technology centers; use of technology in adult, preschool, elementary or secondary education programs; technology and technology management; or community development and outreach to residents of low-income communities.

Prospective field readers may include technology providers, administrators, and experts; individuals with experience in use of technology in preschool, elementary, secondary or adult education; individuals from State and district agencies, early childhood, elementary and secondary education, institutions of higher education, and community-based organizations and agencies; and individuals with experience in providing access to technology in low-income communities. Each field reader must have the expertise necessary to accurately assess an applicant's submission on the applicable selection criteria.

The Community Technology Centers Program will be participating in a pilot of e-Reader, the Department's electronic field reading initiative. Readers will be required to have unrestricted access to a computer with Internet accessibility and a printer. In addition, a reader should be able to navigate a World Wide Web browser, be able to complete and submit on-line forms, and be able to send and receive e-mail.

Conflict of Interest: You may not serve as a reviewer if you or your spouse plan to submit a grant application under the program in Fiscal Year (FY) 2001 and you will be paid by the grant if awarded, and/or you or your spouse otherwise have a financial interest in the outcome of the FY 2001 grant competition.

Application Process: If you are interested in serving as a field reader, mail, fax or e-mail a copy of your resume to the address listed below and indicate that you are interested in serving as a field reader for the Community Technology Centers Program. Resumes should not exceed two pages and should include an e-mail address. A cover letter should highlight any experience the individual may have had as a reader in other competitions and any special knowledge and skills that are applicable for the review of applications under this competition.

FOR FURTHER INFORMATION CONTACT: Community Technology Centers Program, Division of Adult Education and Literacy, Office of Vocational and Adult Education, U.S. Department of Education, Washington, DC 20202-7240. Resumes and inquiries may be sent by e-mail to ctc@ed.gov or by Fax to: (202) 205-8973. Individuals who use a telecommunication device for the deaf (TDD) may call the Federal Information Relay Service (FIRS) at 1-800-877-8339, between 8 a.m. and 8 p.m., Eastern time, Monday through Friday.

Individuals with disabilities may obtain this document in an alternative format (e.g., Braille, large print, audio tape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office toll free at 1-888-293-6498 or in the Washington, DC area at (202) 512-1530.

Note: The official version of this document is the document published in the Federal Register. Free Internet access to the official edition of the Federal Register and the Code of Federal Regulations is available on GPO Access at: http://www.access.gpo.gov/nara/index.html

Program Authority: 20 U.S.C. 6832.
Dated: February 28, 2001.
Robert Muller,
Deputy Assistant Secretary for Vocational and Adult Education.

[FR Doc. 01-5256 Filed 3-2-01; 8:45 am]

BILLING CODE 4000-01-M